SOCIAL SECURITY ADMINISTRATION

[Docket No. SSA-2007-0014]

Privacy Act of 1974 as Amended; Computer Matching Program (Social Security Administration (SSA)/Law Enforcement Agencies (LA))—Match Number 5001

AGENCY: Social Security Administration (SSA).

ACTION: Notice of a renewal computer matching program, which is expected to begin April 9, 2007.

SUMMARY: In accordance with the provisions of the Privacy Act, as amended, this notice announces a computer matching program that SSA plans to conduct with the Law Enforcement Agencies.

DATES: SSA will file a report of the subject matching program with the Committee on Homeland Security and Governmental Affairs of the Senate, the Committee on Oversight and Government Reform of the House of Representatives, and the Office of Information and Regulatory Affairs, Office of Management and Budget (OMB). The matching program will be effective as indicated below.

ADDRESSES: Interested parties may comment on this notice by either telefaxing to (410) 965-8582 or writing to the Associate Commissioner, Office of Income Security Programs, 252 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Pub. L. 100-503), amended the Privacy Act (5 U.S.C. 552a) by describing the manner in which computer matching involving Federal agencies could be performed and adding certain protections for individuals applying for, and receiving, Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: February 23, 2007.
Martin H. Gerry,
Deputy Commissioner for Disability and Income Security Programs.

Notice of Computer Matching Program, Social Security Administration (SSA) With Law Enforcement Agencies (LA)

A. Participating Agencies

SSA and LA.

B. Purpose of the Matching Program

The purpose of this matching program is to establish the conditions under which LA agree to disclose fugitive felon and parole or probation violator information to SSA. SSA will use this information to determine eligibility under titles II, VIII, and XVI of the Social Security Act and to select representative payees.

C. Authority for Conducting the Matching Program

This matching program is carried out under the authority of sections 202(x)(1)(A)(iv) and (v), 202(x)(3), 205(j)(2), 804(a)(2), 807(b) and (d), 1611(e)(4) and (5) and 1631(a)(2) of the Social Security Act.

D. Categories of Records and Individuals Covered by the Matching Program

LA will submit names and other identifying information of individuals who are fugitive felons or parole or probation violators. The Master Files of Social Security Numbers (SSN) Holder and SSN Applications system of records, SSA/OEEAS 60-0058, contains the SSNs and identifying information for all SSN holders. The Master Beneficiary Record system of records, SSA/ORSIS 60-0090, and the Supplemental Income Record/Special Veterans Benefit system of records, SSA/OEEAS 60-0103, contain beneficiary and payment information. The Master Representative Payee File system of records, SSA/OISP 60-0222, contains information on individuals acting in a representative payee capacity. SSA will match data from these systems of records with data received from the LAs as a first step in detecting certain fugitive felons and parole or probation violators who should not be receiving benefits under titles II, VIII or XVI or who are prohibited from serving as a representative payee.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. E7-3580 Filed 2-28-07; 8:45 am]

BILLING CODE 4191-02-P